GENERAL SERVICES ADMINISTRATION

[OMB Control No. 3090-0308; Docket No. 2025-0001; Sequence No. 13]

Information Collection; General Services Administration Acquisition Regulation; Construction-Manager-as-Constructor Contracting

AGENCY: Office of Acquisition Policy, General Services Administration (GSA).

ACTION: Notice; request for comments.

SUMMARY: In accordance with the Paperwork Reduction Act of 1995, and the Office of Management and Budget (OMB) regulations, GSA invites the public to comment on an extension of a previously approved information collection requirement regarding OMB Control No. 3090-0308, Construction-Manager-as-Constructor Contracting.

DATES: Submit comments on or before July 21, 2025.

ADDRESSES: Submit comments on this information collection to https://www.regulations.gov. Submit comments via the Federal eRulemaking portal by searching for “Information Collection 3090-0308”. Select the link “Comment Now” that corresponds with Information Collection 3090-0308. Follow the instructions provided at the “Comment Now” screen. Please include your name, company name (if any), and “Information Collection 3090-0308” on your attached document.

Instructions: Please submit comments only and cite “Information Collection 3090-0308” in all correspondence related to this collection. Comments received generally will be posted without change to regulations.gov, including any personal and/or business confidential information provided. To confirm receipt of your comment(s), please check regulations.gov approximately two-to-three days after submission to verify posting.

FOR FURTHER INFORMATION CONTACT: Ms. Amy Lara, 816-589-3783, General Services Acquisition Policy Division, by email at gsarpolicy@gsa.gov.

SUPPLEMENTARY INFORMATION:

A. Purpose

The information collected is used by PBS to evaluate construction-related actions for approval of the contracting officer as required by the contract. As this information is still currently required, GSA seeks to have this information collection extended for three years.

B. Annual Reporting Burden

Public reporting burden for GSAR 552.236-72, Submittals, is estimated to average .50 hours per response, including the time for reviewing instructions, searching existing data sources, gathering and maintaining the data needed, and completing and reviewing the collection of information.

The annual reporting burden is estimated as follows:

Respondents: 995.

Responses per respondent: 5.

Total annual responses: 4,975.

Preparation hours per response: .50.

Total response burden hours: 2,488.

C. Public Comments

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Jeffrey A. Koses,
Senior Procurement Executive, Office of Acquisition Policy, Office of Government-wide Policy.

[FR Doc. 2025-09189 Filed 5-21-25; 8:45 am]

BILLING CODE P